DEPARTMENT OF ENERGY

Federal Energy Regulatory Commission

[Docket No. CP02-317-000]

Unocal Keystone Gas Storage, LLC; Notice of Application for a Limited Blanket Certificate Related to Gas Storage and Transportation at Market-Based Rates

June 4, 2002.

Take notice that on May 21, 2002, Unocal Keystone Gas Storage, LLC, (Keystone) a limited liability company with its principal place of business at 14141 Southwest Freeway, Sugar Land, Texas 77478, filed in Docket No. CP02-317-000 an application pursuant to Section 7c of the Natural Gas Act, as amended, and Section 284.224 of the Commission's Rules and Regulations thereunder, for a limited jurisdiction blanket certificate authorizing it to engage in gas storage and transportation activities at market-based rates. Keystone states it is a Hinshaw company that is exempt from the Commission's general jurisdiction under section 1(c) of the Natural Gas Act.

Keystone explains that it is developing natural gas storage caverns in underground salt formations in Winkler County, Texas, pursuant to orders issued by the Railroad Commission of Texas. The first phase of the project will consist of three operationally integrated storage caverns with working gas capacity of 1 Bcf each. Keystone requests a blanket certificate pursuant to Section 284.224 of the Commission's regulations authorizing it to provide interstate storage services using the portion of its facilities that is not required by the Texas intrastate market.

Keystone also requests authority to charge market-based rates for its services. Keystone states that this request is consistent with the Commission's “Alternative to Traditional Cost-of-Service Ratemaking for Natural Gas Pipelines Statement of Policy” and orders authorizing market-based rates for numerous other small storage providers.

Any person desiring to be heard or to protest said filing should file a motion to intervene or a protest with the Federal Energy Regulatory Commission, 888 First Street, NE., Washington, DC 20426, in accordance with Sections 385.214 or 385.211 of the Commission's Rules and Regulations. All such motions or protests must be filed on or before June 11, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Take further notice that, pursuant to the authority contained in and subject to the jurisdiction conferred upon the Federal Energy Regulatory Commission by Sections 7 and 15 of the Natural Gas Act, as amended, and the Commission's Rules of Practice and Procedure, a hearing will be held without further notice before the Commission on this application if no petition to intervene is filed within the time required herein, if the Commission on its own review of the matter finds that the certificate is required by the public convenience and necessity. If a petition for leave to intervene is timely filed, or if the Commission on its own motion believes that an oral hearing is required, further notice of such hearing will be duly given.

Under the procedure herein provided for, unless otherwise advised, it will be unnecessary for Applicant to appear or be represented at hearing.

Magalie R. Salas,
Secretary.

[FR Doc. 02-14467 Filed 6-7-02; 8:45 am]

BILLING CODE 6717-01-P